DEPARTMENT OF DEFENSE

Department of the Army; Corps of Engineers

Intent To Prepare a Draft Supplemental Environmental Impact Statement (Supplement 2) for the Mississippi River, Baton Rouge to the Gulf of Mexico, Mississippi River-Gulf Outlet, Louisiana, New Industrial Canal Lock and Connecting Channels Project, New Orleans, LA

AGENCY: Department of the Army, U.S. Army Corps of Engineers, DoD.

ACTION: Notice of intent.

SUMMARY: The U.S. Army Corps of Engineers (Corps), New Orleans District intends to prepare a Draft Supplemental Environmental Impact Statement (EIS), integrated with a General Reevaluation Report, for the Mississippi River, Baton Rouge to the Gulf of Mexico Mississippi River-Gulf Outlet, Louisiana New Industrial Canal Lock and Connecting Channels Project, hereinafter referred to as “the Project”. This project is sometimes referred to as the Inner Harbor Navigation Canal (IHNC) Lock Replacement Project. This will be the second supplemental EIS prepared for this project.

DATES: A public scoping meeting is scheduled for Wednesday, February 4, 2015. An open house will be held at 6:00 p.m. followed by the scoping meeting at 6:30 p.m.

ADDRESSES: The scoping meeting will be held at Dr. Martin Luther King Jr. Charter School for Science and Technology, 1617 Caffin Avenue, New Orleans, LA.

FOR FURTHER INFORMATION CONTACT: Questions about the Project and the supplemental EIS should be addressed to: Mr. Richard Boe or Mr. Mark Lahare, U.S. Army Corps of Engineers, Environmental Compliance Branch, P.O. Box 60267, New Orleans, LA 70160-0267, by email to Richard.e.boe@usace.army.mil or Mark.h.lahare@usace.army.mil, or by telephone at (504) 862-1505 or (504) 862-1344.

SUPPLEMENTARY INFORMATION: 1. Project Background and Authorization. The existing Industrial Canal Lock, hereinafter referred to as the “existing lock”, located in Orleans Parish, Louisiana, connects the Mississippi River to Lake Pontchartrain, the Gulf Intracoastal Waterway (GIWW), and the remaining authorized six miles of the Mississippi River—Gulf Outlet (MRGO) between the Industrial Canal and the Michoud Slip. The existing lock, located between the St. Claude and Claiborne Avenue (Judge Seeber) Bridges in New Orleans, was commissioned and constructed by non-federal interests in 1923 to allow vessel traffic from the Mississippi River to Lake Pontchartrain and to permit industrial development away from the river. The federal government purchased the existing lock at a later date.

The Project was authorized by an act of Congress entitled “AN ACT to authorize construction of the Mississippi River-Gulf outlet [sic]”, approved on March 29, 1956, as Chapter 112 of Public Law 455, of the 84th Congress as an amendment to the existing Mississippi River, Baton Rouge to the Gulf of Mexico to provide for the construction of the Mississippi River-Gulf Outlet substantially in accordance with the report and recommendation of the Chief of Engineers in House Document No. 245 of the 82nd Congress, and to authorize the Chief of Engineers, when economically justified by the obsolescence of the existing industrial canal lock or by increased traffic, to replace the existing lock or an additional lock in the vicinity of Meraux, Louisiana, together with suitable connecting channels, said replacement lock and connecting channels to be constructed in accordance with the type, dimensions, and cost estimates approved by the Chief of Engineers. The 1956 authorization was later amended by Section 844 of the Water Resources Development Act of 1986, Public Law 99-662, and Section 326 of the Water Resources Development Act of 1996, Public Law 104-303.

The original EIS and project evaluation report for the Project was finalized in March 1998. A Record of Decision was signed on December 18, 1998, selecting a construction method and location for a replacement lock north of the Claiborne Avenue Bridge, replacement of the St. Claude Avenue Bridge, modification of the Claiborne Avenue Bridge, extension of the Mississippi River flood protection levees and floodwalls, a community impact mitigation plan, and a fish and wildlife mitigation plan.

In 2003, the Corps' decision to construct a new lock was challenged in United States District Court, Eastern District of Louisiana (Case No. 2:03-cv-00370). In October 2006, the Court enjoined the Corps from continuing with the Project until additional compliance with the National Environmental Policy Act (NEPA) was completed.

In accordance with the provisions of Section 7013 of the Water Resources Development Act of 2007, Public Law 110-114, that portion of the MRGO from Mile 60 on the southern bank of the Gulf Intracoastal Waterway to the Gulf of Mexico was deauthorized effective upon the June 5, 2008 submittal by the Assistant Secretary of the Army (Civil Works) to Congress of the Report of the Chief of Engineers dated January 29, 2008 recommending partial deauthorization of the MRGO. In July 2009, in accordance with the 2008 MRGO Chief's Report, the Corps completed construction of a rock closure structure on the MRGO at Bayou LaLoutre. Aids to navigation have been removed.

In 2007, the Corps initiated preparation of a Supplemental Environmental Impact Statement (SEIS) for the Project to address changes in the existing conditions after Hurricane Katrina, further analyze anticipated impacts associated with construction of the new lock and determine if any significant changes to the previously-recommended plan were necessary. The final SEIS considered three deep-draft lock alternatives and the no-action alternative (i.e., continued operation and maintenance of the existing lock), two dredging alternatives for the excavation that would be necessary for the construction of a new deep-draft lock, and three disposal alternatives for the dredged sediment. On May 20, 2009, a Record of Decision was signed, recommending the float-in-place plan for construction of the lock, the hydraulic dredging method for excavation of sediment from the canal, and a dredged material disposal plan that included three locations for disposal of excavated sediments.

In 2010, the Corps' decision to construct a new lock was again challenged in United States District Court, Eastern District of Louisiana in a case that was subsequently consolidated with the 2003 case. On September 9, 2011, the Court found that the 2009 SEIS failed to sufficiently consider the impact of the closure of the MRGO to deep-draft traffic and the effect of that closure on the depth of the new lock and potentially how that depth may affect dredging and disposal alternatives for the Project.

2. Proposed Action. The purpose of the General Reevaluation Report and SEIS is to determine if construction of a more efficient navigational lock to replace the existing lock is economically justified and environmentally acceptable. The need for the Project arises from long navigation delays in passage through the Industrial Canal due to an increase in volume of vessel traffic and the small size and inefficiencies of the current lock. This supplemental EIS will evaluate (and/or reevaluate, as appropriate) existing conditions, alternative lock designs, and provide environmental analysis of anticipated project impacts associated with lock construction, dredging and disposal alternatives. The analyses associated with the handling of dredged material generated during project construction, the engineering design of confined disposal areas, and several other aspects of the Project, evaluated in the original 1998 EIS and the 2009 SEIS, will also be updated as appropriate.

3. Alternatives. An evaluation of alternatives, including a no action alternative will be included. In this supplemental EIS, the no action alternative will be the continued operation and maintenance of the existing lock. Other alternatives will be determined through scoping, but are anticipated to include shallow-draft versus deep-draft lock alternatives. Previous evaluations of alternative dredging methods, dredged material handling and disposal alternatives, and construction of the lock by a cast-in-place method versus a float-in construction method evaluated in the 1998 EIS and 2009 SEIS will also be updated and/or re-evaluated as appropriate.

4. Scoping. The Council on Environmental Quality regulations at 40 CFR 1501.7 require an early and open process for determining the scope of an EIS and for identifying significant issues related to the proposed action. The public will be involved in the scoping and evaluation process through advertisements, notices, and other means. Federal, state and local agencies, and other interested groups will also be involved. Meetings to address discrete issues or parts or functions of the Project may be held. All parties are invited to participate in the scoping process by identifying any additional concerns on issues, studies needed, alternatives, procedures, and other matters related to the scope of this supplemental EIS.

A. The Corps will provide additional notification of the public scoping meeting time and location through newspaper advertisements and other means (see DATES). Following a short presentation, verbal and written comments on the scope of this supplemental EIS will be accepted. A transcript of verbal comments will be generated to ensure accuracy.

B. Issues. Issues identified for the Project include, but are not limited to the level of existing and forecasted vessel traffic through the existing lock, changes in socio-economics (i.e., property values, population, land use, public/community facilities and services) since the 2009 SEIS, evaluation of direct and indirect social and cultural impacts of the Project on certain Congressionally identified affected communities and the appropriate and practicable mitigation measures to address those impacts, lock construction methods (i.e., cast-in-place versus float-in), lock depth, and re-evaluation of reasonable dredging and disposal alternatives and associated impacts. This list is preliminary and is intended to facilitate public comment on the scope of the SEIS. Concurrent with the NEPA process, the Corps will ensure that compliance will be achieved and/or maintained with all applicable environmental laws, regulations, and executive orders governing issues such as Federally-listed threatened and endangered species, essential fish habitats, health and safety, general environmental concerns, wetlands and other aquatic resources, historic properties, fish and wildlife values, flood hazards, navigation, recreation, water quality, and environmental justice. In making its decision, the Corps will consider, in general, the needs and welfare of the community, the effect of the closure of the MRGO on existing conditions and the alternatives under evaluation, and other issues identified through scoping, public involvement, stakeholder views, and interagency coordination. The Corps expects to better define the issues of concern and define the methods that will be used to evaluate those issues through the scoping process.

C. Environmental Review and Consultation. The proposed action will involve an evaluation for compliance with all applicable guidelines pursuant to section 404(b) of the Clean Water Act. This review will involve a detailed reevaluation of all practicable alternatives to the handling and disposal of the dredged material generated from the Project. The Corps will provide extensive information on the resources to be impacted, mitigation measures, and alternatives. Although the Corps does not plan to invite any Federal agencies to be cooperating agencies, we expect to receive input and critical information from the U.S. Environmental Protection Agency, the U.S. Fish and Wildlife Service and other Federal, state, and local agencies.

5. Public Scoping Meeting Special Accommodations. The public scoping meeting place is physically accessible to people with disabilities. Requests for sign language interpretation or other auxiliary aids should be directed to Mark Lahare, (504) 862-1344 (voice), or email at Mark.h.lahare@usace.army.mil, at least 5 business days prior to the meeting date.

6. Estimated Date of Availability. It is estimated that this draft supplemental EIS will be available to the public in June 2016. At least one public hearing will be held at that time, during which the public will be provided the opportunity to comment on the draft supplemental EIS before it becomes final.

Dated: January 20, 2015.
Richard L. Hansen,
Colonel, U.S. Army, District Commander.

[FR Doc. 2015-01674 Filed 1-28-15; 8:45 am]

BILLING CODE 3720-58-P